DEPARTMENT OF ENERGY

Federal Energy Regulatory Commission

Combined Notice of Filings #1

Take notice that the Commission received the following Complaints and Compliance filings in EL Dockets:

Docket Numbers: EL22-72-000.

Applicants: Mercer County Solar Project, LLC v. PJM Interconnection, LLC.

Description: Complaint Requesting Fast Track Processing of Mercer County Solar Project, LLC.

Filed Date: 6/28/22.

Accession Number: 20220628-5159.

Comment Date: 5 p.m. ET 7/18/22.

Take notice that the Commission received the following electric rate filings:

Docket Numbers: ER10-1821-022.

Applicants: Goshen Phase II LLC.

Description: Triennial Market Power Analysis for the Northwest Region of Goshen Phase II LLC.

Filed Date: 6/30/22.

Accession Number: 20220630-5340.

Comment Date: 5 p.m. ET 8/29/22.

Docket Numbers: ER10-2126-006.

Applicants: Idaho Power Company.

Description: Triennial Market Power Analysis for the Northwest Region and Notice of Change in Status of Idaho Power Company.

Filed Date: 6/30/22.

Accession Number: 20220630-5332.

Comment Date: 5 p.m. ET 8/29/22.

Docket Numbers: ER10-2575-011.

Applicants: Watson Cogeneration Company.

Description: Triennial Market Power Analysis for the Southwest Region of Watson Cogeneration Company.

Filed Date: 7/1/22.

Accession Number: 20220701-5067.

Comment Date: 5 p.m. ET 8/30/22.

Docket Numbers: ER10-2756-010; ER10-2264-010; ER10-2359-011.

Applicants: Sunrise Power Company, LLC, Long Beach Generation LLC, Griffith Energy LLC.

Description: Triennial Market Power Analysis for the Southwest Region of Griffith Energy LLC, et al.

Filed Date: 6/30/22.

Accession Number: 20220630-5337.

Comment Date: 5 p.m. ET 8/29/22.

Docket Numbers: ER10-2757-009; ER11-3051-005.

Applicants: Macho Springs Power I, LLC, Arlington Valley, LLC.

Description: Triennial Market Power Analysis for the Southwest Region of Arlington Valley, LLC, et al.

Filed Date: 6/30/22.

Accession Number: 20220630-5336.

Comment Date: 5 p.m. ET 8/29/22.

Docket Numbers: ER10-3310-015; ER18-53-003.

Applicants: CXA La Paloma, LLC, New Harquahala Generating Company, LLC.

Description: Triennial Market Power Analysis for the Southwest Region of New Harquahala Generating Company, LLC, et al.

Filed Date: 6/30/22.

Accession Number: 20220630-5328.

Comment Date: 5 p.m. ET 8/29/22.

Docket Numbers: ER12-2178-016; ER10-2192-039; ER13-1536-023; ER10-2178-039.

Applicants: Constellation NewEnergy, Inc., Constellation Energy Generation, LLC, Constellation Energy Commodities Group Maine, LLC, AV Solar Ranch 1, LLC.

Description: Triennial Market Power Analysis for the Southwest Region of AV Solar Ranch 1, LLC, et al.

Filed Date: 6/30/22.

Accession Number: 20220630-5335.

Comment Date: 5 p.m. ET 8/29/22.

Docket Numbers: ER13-1865-005.

Applicants: Tesoro Refining & Marketing Company LLC.

Description: Triennial Market Power Analysis for the Southwest Region of Tesoro Refining & Marketing Company LLC.

Filed Date: 7/1/22.

Accession Number: 20220701-5074.

Comment Date: 5 p.m. ET 8/30/22.

Docket Numbers: ER14-1140-002; ER13-1069-015; ER12-2381-012; ER10-1484-026.

Applicants: Shell Energy North America (US), L.P., MP2 Energy NE LLC, MP2 Energy LLC, Inspire Energy Holdings, LLC.

Description: Triennial Market Power Analysis for the Southwest Region of Inspire Energy Holdings, LLC, et al.

Filed Date: 6/30/22.

Accession Number: 20220630-5339.

Comment Date: 5 p.m. ET 8/29/22.

Docket Numbers: ER14-1656-012.

Applicants: CSOLAR IV West, LLC.

Description: Triennial Market Power Analysis for the Southwest Region of CSOLAR IV West, LLC.

Filed Date: 6/30/22.

Accession Number: 20220630-5334.

Comment Date: 5 p.m. ET 8/29/22.

Docket Numbers: ER16-2368-001; ER16-1888-004.

Applicants: Tidal Energy Marketing Inc., New Creek Wind LLC.

Description: Triennial Market Power Analysis for the Northeast Region of New Creek Wind LLC, et al.

Filed Date: 6/30/22.

Accession Number: 20220630-5333.

Comment Date: 5 p.m. ET 8/29/22.

Docket Numbers: ER18-1778-001.

Applicants: CFE International LLC.

Description: Triennial Market Power Analysis for the Southwest Region of CFE International LLC.

Filed Date: 6/30/22.

Accession Number: 20220630-5330.

Comment Date: 5 p.m. ET 8/29/22.

Docket Numbers: ER18-2033-002; ER21-963-002.

Applicants: Silverstrand Grid, LLC, Saavi Energy Solutions, LLC.

Description: Triennial Market Power Analysis for the Southwest Region of Saavi Energy Solutions, LLC, et al.

Filed Date: 6/30/22.

Accession Number: 20220630-5329.

Comment Date: 5 p.m. ET 8/29/22.

Docket Numbers: ER21-1297-003; ER13-1562-011; ER20-1910-003; ER20-1911-003; ER20-1915-004; ER20-1916-004; ER21-1502-001; ER21-1503-001; ER12-1931-012; ER10-2504-013; ER12-610-013; ER13-338-011; ER19-2260-001.

Applicants: Valentine Solar, LLC, Shiloh IV Lessee, LLC, Shiloh III Lessee, LLC, Shiloh Wind Project 2, LLC, Pacific Wind Lessee, LLC, Maverick Solar 7, LLC, Maverick Solar 6, LLC, Maverick Solar 4, LLC, Maverick Solar, LLC, Desert Harvest II LLC, Desert Harvest, LLC, Catalina Solar Lessee, LLC, BigBeau Solar, LLC.

Description: Triennial Market Power Analysis for Southwest Region of Big Beau Solar, LLC, et al.

Filed Date: 6/29/22.

Accession Number: 20220629-5193.

Comment Date: 5 p.m. ET 8/29/22.

Docket Numbers: ER22-110-000.

Applicants: Cheyenne Light, Fuel and Power Company.

Description: Report Filing: Supplement to Jurisdictional Agreement Filing to be effective N/A.

Filed Date: 3/3/22.

Accession Number: 20220303-5025.

Comment Date: 5 p.m. ET 7/11/22.

Docket Numbers: ER22-1927-000; ER22-1945-000; ER22-1929-000; ER22-1928-000.

Applicants: Salt City Solar LLC, ENGIE Solidago Solar LLC, Powells Creek Farm Solar, LLC, Sunnybrook Farm Solar, LLC.

Description: Supplement to May 20 and May 23, 2022 Bracewell LLP, et al., submits tariff filing per 35.12: Application for Market-Based Rate Authorization, Request for Related Waivers to be effective 8/1/2022.

Filed Date: 6/28/22.

Accession Number: 20220628-5176.

Comment Date: 5 p.m. ET 7/12/22.

Docket Numbers: ER22-1979-001.

Applicants: El Paso Electric Company.

Description: Tariff Amendment: Depreciation Rate Update Associated with Rate Schedule No. 18 to be effective 8/1/2022.

Filed Date: 6/30/22.

Accession Number: 20220630-5275.

Comment Date: 5 p.m. ET 7/21/22.

Docket Numbers: ER22-2259-000.

Applicants: Nebraska Public Power District, Southwest Power Pool, Inc.

Description: § 205(d) Rate Filing: Nebraska Public Power District submits tariff filing per 35.13(a)(2)(iii): Nebraska Public Power District Revisions to Formula Rate to be effective 9/1/2022.

Filed Date: 6/30/22.

Accession Number: 20220630-5250.

Comment Date: 5 p.m. ET 7/21/22.

Docket Numbers: ER22-2260-000.

Applicants: New England Power Pool Participants Committee.

Description: § 205(d) Rate Filing: July 2022 Membership Filing to be effective 7/1/2022.

Filed Date: 6/30/22.

Accession Number: 20220630-5257.

Comment Date: 5 p.m. ET 7/21/22.

Docket Numbers: ER22-2261-000.

Applicants: Southwest Power Pool, Inc.

Description: § 205(d) Rate Filing: 1977R18 Nemaha-Marshall Electric Cooperative NITSA and NOA to be effective 9/1/2022.

Filed Date: 6/30/22.

Accession Number: 20220630-5263.

Comment Date: 5 p.m. ET 7/21/22.

Docket Numbers: ER22-2262-000.

Applicants: Mississippi Power Company.

Description: § 205(d) Rate Filing: MRA Amended and Restated Shared Service Agrmt (with Cooperative Energy) Filing to be effective 7/1/2022.

Filed Date: 6/30/22.

Accession Number: 20220630-5266.

Comment Date: 5 p.m. ET 7/21/22.

Docket Numbers: ER22-2263-000.

Applicants: Blythe Energy Inc.

Description: Market: Blythe Energy Inc. Triennial Filing to be effective 8/30/2022.

Filed Date: 7/1/22.

Accession Number: 20220701-5000.

Comment Date: 5 p.m. ET 8/30/22.

Docket Numbers: ER22-2264-000.

Applicants: Midcontinent Independent System Operator, Inc., Great River Energy, Northern States Power Company, a Minnesota corporation.

Description: § 205(d) Rate Filing: Midcontinent Independent System Operator, Inc. submits tariff filing per 35.13(a)(2)(iii): 2022-07-01_SA 3813 NSP-GRE-Willmar TIA to be effective 8/31/2022.

Filed Date: 7/1/22.

Accession Number: 20220701-5025.

Comment Date: 5 p.m. ET 7/22/22.

Docket Numbers: ER22-2265-000.

Applicants: PJM Interconnection, L.L.C.

Description: § 205(d) Rate Filing: Original ISA, Service Agreement No. 6519; Queue No. AC2-061 to be effective 6/6/2022.

Filed Date: 7/1/22.

Accession Number: 20220701-5049.

Comment Date: 5 p.m. ET 7/22/22.

Docket Numbers: ER22-2266-000.

Applicants: Midcontinent Independent System Operator, Inc.

Description: § 205(d) Rate Filing: 2022-07-01 SA 3853 NSP-Grant Solar GIA (J1169) to be effective 8/31/2022.

Filed Date: 7/1/22.

Accession Number: 20220701-5075.

Comment Date: 5 p.m. ET 7/22/22.

Docket Numbers: ER22-2267-000.

Applicants: 527 Energy.

Description: Tariff Amendment: 527 Energy Inc. Request to Cancel MBR Tariff to be effective 7/1/2022.

Filed Date: 7/1/22.

Accession Number: 20220701-5081.

Comment Date: 5 p.m. ET 7/22/22.

Take notice that the Commission received the following electric securities filings:

Docket Numbers: ES22-50-000.

Applicants: Deerfield Wind Energy 2, LLC.

Description: Amendment to Application Under Section 204 of the Federal Power Act for Authorization to Issue Securities of Deerfield Wind Energy 2, LLC.

Filed Date: 6/28/22.

Accession Number: 20220628-5172.

Comment Date: 5 p.m. ET 7/8/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2022.
Debbie-Anne A. Reese,
Deputy Secretary.

[FR Doc. 2022-14594 Filed 7-7-22; 8:45 am]

BILLING CODE 6717-01-P